FEDERAL MARITIME COMMISSION

Ocean Transportation Intermediary License Reissuance

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR Part 515.

License No. | Name/Address | Date reissued
016914NF | Air Sea Cargo Network, Inc., 7982 Capwell Drive, Oakland, CA 94621 | March 12, 2010.
017692NF | American Links Logistics International, Inc., 3591 Highland Drive, San Bruno, CA 94066 | April 3, 2010.
019651N | Acorn International Forwarding, Co., 2200 Pacific Coast Highway, Suite 219, Hermosa Beach, CA 90254 | April 30, 2010.
021975F | Adora International LLC, 16813 FM 1485, Conroe, TX 77306 | April 20, 2010.

Sandra L. Kusumoto,
Director, Bureau of Certification and Licensing.

[FR Doc. 2010-12700 Filed 5-25-10; 8:45 am]

BILLING CODE 6730-01-P